NUCLEAR REGULATORY COMMISSION

[Docket Nos. 50-361 and 50-362]

Southern California Edison Company; San Onofre Nuclear Generating Station, Units 2 and 3 Environmental Assessment and Finding of No Significant Impact

The U.S. Nuclear Regulatory Commission (the Commission, or NRC) is considering issuance of an exemption from Title 10 of the Code of Federal Regulations (10 CFR) part 50, Appendix E, sections IV.F.2.b and c to Facility Operating License Nos. NPF-10 and NPF-15, issued to Southern California Edison Company (the licensee), for operation of the San Onofre Nuclear Generating Station, Units 2 and 3, (SONGS), located in San Diego County, California. Therefore, as required by 10 CFR 51.21, the NRC is issuing this environmental assessment and finding of no significant impact.

Environmental Assessment

Identification of the Proposed Action

The proposed action is a one time exemption from the requirements of Appendix E, sections IV.F.2.b and c regarding conduct of a full participation exercise of the onsite and offsite emergency plans every 2 years. Under the proposed exemption, as modified by the staff (which is discussed below), the licensee would reschedule the exercise originally scheduled for September 12, 2001, and complete the exercise requirements by December 31, 2002.

The proposed action is in accordance with the licensee's application for an exemption dated September 18, 2001. The licensee requested a one-time exemption, in accordance with 10 CFR 50.12, “Specific exemptions,” from the requirements in 10 CFR part 50, Appendix E, sections IV.F.2.b and c to perform a biennial exercise of the onsite and offsite emergency plans (EPs) with full participation of each offsite authority having a role under the offsite plan (i.e., a full participation exercise), for SONGS. A full participation exercise had been scheduled for SONGS for September 12, 2001; however, as a result of the national security events occurring in the United States on September 11, 2001, this exercise was canceled. The licensee requested that the biennial exercise for 2001 not be conducted as required by Appendix E, and the next full participation exercise be conducted in 2003 and every two years thereafter.

Because the NRC's staff has concluded that it cannot grant the licensee's request to cancel the full participation exercise for 2001, and because the scheduled 2001 full participation exercise to meet the regulations was canceled for good cause, there is insufficient time before January 1, 2002, when the licensee would be in violation of the regulations, to prepare and conduct the exercise and the licensee has provided sufficient information to provide a basis for a one-year schedular extension to the requirements in the regulations, the NRC has concluded that such a one-year schedular exemption to the biennial exercise requirements in Appendix E to 10 CFR part 50 can be granted SONGS. The full participation exercise for SONGS scheduled for 2001 would be conducted by December 31, 2002. Future exercises, however, will be performed as previously scheduled (i.e., granting of a schedular exemption for the current exercise does not reset the 2-year clock and the licensee will be expected to complete the next scheduled exercise in 2003).

The Need for the Proposed Action

Sections IV.F.2.b and c, of Appendix E to 10 CFR part 50, require each licensee at each site to conduct an exercise of its onsite and offsite EPs every 2 years. Federal agencies (the NRC for the onsite exercise portion and the Federal Emergency Management Agency for the offsite exercise portion) observe these exercises and evaluate the performance of the licensee, State and local authorities having a role under the emergency plan.

The licensee had initially planned to conduct an exercise of its onsite and offsite EPs on September 12, 2001, within the required 2-year interval. However, as a result of the national security events occurring in the United States on September 11, 2001, this exercise was canceled.

Environmental Impacts of the Proposed Action

The NRC has completed its evaluation of the revised proposed action to grant a one-year schedular extension exemption to SONGS for the biennial exercise requirements in Appendix E to 10 CFR part 50 and concludes that it involves an administrative activity (a schedular change in conducting an exercise) unrelated to plant operations.

The revised proposed action will not significantly increase the probability or consequences of accidents, no changes are being made in the types of any effluents that may be released offsite, and there is no significant increase in occupational or public radiation exposure. Therefore, there are no significant radiological environmental impacts ass ociated with the revised proposed action.

With regard to potential non-radiological impacts, the revised proposed action does not have a potential to affect any historic sites. It does not affect non-radiological plant effluents and has no other environmental impact. Therefore, there are no significant non-radiological environmental impacts associated with the revised proposed action.

Accordingly, the NRC concludes that there are no significant environmental impacts associated with the revised proposed action.

Environmental Impacts of Alternatives to the Proposed Action

As an alternative to the revised proposed action, the NRC staff considered denial of the action (i.e., the “no-action” alternative). Denial of the revised proposed action would result in no change in current environmental impacts. The environmental impacts of the proposed action and the alternative action are similar.

Alternative Use of Resources

This action does not involve the use of any different resources than those previously considered in the Final Environmental Statement for SONGS dated April 1981.

Agencies and Persons Consulted

On November 29 and December 17, 2001, the NRC staff consulted with the California State official, Ben Tong of the Governor's Office of Emergency Services, regarding the environmental impact of the proposed action. The State official had no comments on the environmental impact; however, the State official did not agree with rescheduling the exercise. The State official's comments will be addressed in the safety evaluation supporting the exemption. In addition, by phone on December 3, 2001, the Federal Emergency Management Agency (FEMA) indicated that it had no disagreement with rescheduling the exercise.

Finding of No Significant Impact

On the basis of the environmental assessment, the NRC concludes that the revised proposed action will not have a significant effect on the quality of the human environment. Accordingly, the NRC has determined not to prepare an environmental impact statement for the revised proposed action.

For further details with respect to the proposed action, see the licensee's letter dated September 18, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Public Electronic Reading Room). Persons who do not have access to ADAMS or who encounter problems in accessing the documents located in ADAMS, should contact the NRC PDR Reference staff by telephone at 1-800-397-4209, or 301-415-4737, or by e-mail at pdr@nrc.gov.

Dated at Rockville, Maryland, this 17th day of December, 2001.
For the Nuclear Regulatory Commission.
Jack Donohew,
Senior Project Manager, Section 2, Project Directorate IV, Division of Licensing Project Management, Office of Nuclear Reactor Regulation.

[FR Doc. 01-31472 Filed 12-20-01; 8:45 am]

BILLING CODE 7590-01-P